DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northeast Illinois Commuter Railroad Corporation

[Waiver Petition Docket Number FRA-2010-0150]

The Northeast Illinois Commuter Railroad Corporation (Metra) seeks a waiver of compliance with the Locomotive Safety Standards, 49 CFR 229.21, 229.23(d), 229.27(a)(3), and 229.29(a). Also, from the Passenger Equipment Safety Standards, 49 CFR 238.19, 238.303, 238.305, and 238.307 as they pertain to record-keeping and employee signatures. Metra seeks to keep locomotive Daily Inspection, Periodic Inspection, Annual Tests, and Biennial tests records in a centralized database, and provide for employees performing these inspections to utilize electronic signatures. These electronic records would be available at the various mechanical facilities where hard copies of the records are now maintained. FRA does not see a need to grant a waiver from the record-keeping requirements of the Passenger Equipment Safety Standards which already allows for electronic record-keeping.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010- 0150) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on October 18, 2010.
Robert C. Lauby,
Deputy Associate Administrator for Regulatory and Legislative Operations.

[FR Doc. 2010-26682 Filed 10-21-10; 8:45 am]

BILLING CODE 4910-06-P